DEPARTMENT OF ENERGY

Federal Energy Regulatory Commission

[Docket No.RP96-389-066]

Columbia Gulf Transmission Company; Notice of Compliance Filing

September 5, 2002.

Take notice that on August 30, 2002, Columbia Gulf Transmission Company (Columbia Gulf) tendered for filing as part of its FERC Gas Tariff, Second Revised Volume No. 1, the following revised tariff sheet to become effective August 20, 2002:

Fifth Revised Sheet No. 316

Columbia Gulf states on July 19, 2002, it made a filing with the Commission seeking approval of a Rate Schedule FTS-1 negotiated rate agreement with TotalFinaElf Gas and Power North America, Inc. (TotalFinaElf) in Docket No. RP96-389-060. On July 23, 2002, Columbia Gulf made a similar filing with the Commission seeking approval of a Rate Schedule FTS-1 negotiated rate Agreement with Cinergy Marketing & Trading, L. P. (Cinergy) in Docket No. RP96-389-062. On August 20, 2002, the Commission issued an order approving the TotalFinaElf service agreement effective November 1, 2002. On August 21, 2002, the Commission issued an order approving the Cinergy service agreement effective July 1, 2002. Both orders directed Columbia Gulf to file a tariff sheet identifying the agreements as non-conforming agreements in compliance with Section 154.112(b) of the Commission's regulations. The instant filing is being made to comply with Section 154.112(b) and reference the non-conforming service agreements in its Volume No. 1 tariff.

Columbia Gulf states that copies of its filing is being served to each of the parties listed on the service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-23182 Filed 9-17-02; 8:45 am]

BILLING CODE 6717-01-P